DEPARTMENT OF HEALTH AND HUMAN SERVICES

National Institutes of Health

Request for Information for the Development of the Fiscal Year 2021-2023 Trans-NIH Strategic Plan for HIV and HIV-Related Research

AGENCY: National Institutes of Health, HHS.

ACTION: Notice.

SUMMARY: Through this Request for Information (RFI), the Office of AIDS Research (OAR) in the Division of Program Coordination, Planning, and Strategic Initiatives (DPCPSI), National Institutes of Health (NIH), invites feedback from investigators in academia, industry, health care professionals, patient advocates and health advocacy organizations, scientific or professional organizations, federal agencies, community, and other interested constituents on the development of the fiscal year (FY) 2021-2023 Trans-NIH Strategic Plan for HIV and HIV-Related Research (the Plan). The Plan is designed to identify and articulate future directions to maximize the NIH's investments in HIV research.

DATES: The OAR's Request for Information is open for public comment for a period of 30 days. Comments must be received by June 20, 2018 to ensure consideration. After the public comment period has closed, the comments received by OAR will be considered in a timely manner for the development of the FY 2021-2023 Trans-NIH Strategic Plan for HIV and HIV-related Research.

ADDRESSES: Submissions may be electronically entered at https://grants.nih.gov/grants/rfi/rfi.cfm?ID=76.

FOR FURTHER INFORMATION CONTACT: Questions about this request for information should be directed to the Office of AIDS Research, National Institutes of Health, email: NIHOARRFI@nih.gov, 5601 Fishers Lane Rockville, Maryland 20852.

SUPPLEMENTARY INFORMATION: To respond this RFI, go to the following web address: http://grants.nih.gov/grants/rfi/rfi.cfm?ID=76.

As legislatively mandated, OAR plans and coordinates research through the development of an annual Trans-NIH Strategic Plan for HIV and HIV-Related Research that articulates the overarching HIV research priorities and serves as the framework for developing the trans-NIH HIV research budget. OAR oversees and coordinates the conduct and support of all HIV research activities across the NIH Institutes and Centers (ICs). The NIH-sponsored HIV research programs include both extramural and intramural research, buildings and facilities, research training, program evaluation, and supports a comprehensive portfolio of research representing a broad range of basic, clinical, behavioral, social sciences, and translational research on HIV and its associated coinfections and comorbidities.

The Plan provides information about the NIH's HIV research priorities to the scientific community, Congress, community stakeholders, HIV-affected communities, and the broad public at large. The fiscal year 2018 Trans-NIH Plan for HIV-Related Research was recently distributed on the OAR website: (https://www.oar.nih.gov/strategic_plan/plan_18.asp).

The current overarching priorities for HIV/AIDS research are defined in the NIH Director's Statement of August 12, 2015, and Guide Notice NOT-OD-15-137 (https://grants.nih.gov/grants/guide/notice-files/NOT-OD-15-137.html).

High Priority topics of research for support include:

(1) Reducing the incidence of HIV/AIDS;

(2) Developing the next generation of HIV therapies;

(3) Identifying strategies towards a cure;

(4) Improving the prevention and treatment of HIV-associated comorbidities, coinfections, and complications; and

(5) Cross-cutting areas that includes basic research, behavioral and social sciences research, health disparities, trainings, capacity-building, and infrastructure.

This RFI is for planning purposes only and should not be construed as a solicitation for applications or proposals, or as an obligation in any way on the part of the United States Federal Government. The Federal Government will not pay for the preparation of any information submitted or for the government's use. Additionally, the government cannot guarantee the confidentiality of the information provided.

Dated: May 14, 2018.
Lawrence A. Tabak,
Deputy Director, National Institutes of Health.

[FR Doc. 2018-10784 Filed 5-18-18; 8:45 am]

BILLING CODE 4140-01-P